DEPARTMENT OF LABOR

Pension and Welfare Benefits Administration

Agency Information Collection Activities; Announcement of OMB Approval

AGENCY: Pension and Welfare Benefits Administration, Department of Labor.

ACTION: Notice.

SUMMARY: The Pension and Welfare Benefits Administration (PWBA) is announcing that collections of information included in Prohibited Transaction Class Exemptions (PTCE) 91-55, 92-6, and 82-63 have been approved by the Office of Management and Budget (OMB) under the Paperwork Reduction Act of 1995. This notice announces the OMB approval numbers and expiration dates.

FOR FURTHER INFORMATION CONTACT: Address requests for copies of the information collection requests (ICRs) to Gerald B. Lindrew, U.S. Department of Labor, Pension and Welfare Benefits Administration, 200 Constitution Avenue, NW. Room N-5647, Washington, DC, 20210. Telephone: (202) 219-4782. This is a not a toll-free number.

SUPPLEMENTARY INFORMATION: In the Federal Register of February 14, 2001 (66 FR 10322), the Agency announced its intent to request renewal of its current OMB approval for the information collection provisions of PTCE 91-55, Compensation to Fiduciaries for Securities Lending Services to an Employee Benefit Plan. In accordance with the Paperwork Reduction Act of 1995 (44 U.S.C. 3501-3520) (PRA 95), OMB has renewed its approval for the ICR under OMB control number 1210-0079. The approval expires June 30, 2004.

In the Federal Register of January 18, 2001 (66 FR 4865), the Agency announced its intent to request renewal of its current OMB approval for the information collection provisions of Prohibited Transaction Class Exemption 92-6, Sale of Individual Life Insurance or Annuity Contracts. In accordance with PRA 95, OMB has renewed its approval for the ICR under OMB control number 1210-0063. The approval expires June 30, 2004.

In the Federal Register of February 22, 2001 (66 FR 11182), the Agency announced its intent to request renewal of its current OMB approval for the information collection provisions of Prohibited Transaction Class Exemption 82-63, Compensation for Securities Lending. In accordance with PRA 95, OMB has renewed its approval for the ICR under OMB control number 1210-0062. The approval expires June 30, 2004.

Under 5 CFR 1320.5(b), an Agency may not conduct or sponsor, and a person is not required to respond to, a collection of information unless the collection of information displays a valid control number.

Dated: June 21, 2001.
Gerald B. Lindrew,
Deputy Director, Office of Policy and Research, Pension and Welfare Benefits Administration.

[FR Doc. 01-16077 Filed 6-26-01; 8:45 am]

BILLING CODE 4510-29-M